DEPARTMENT OF LABOR

Employment and Training Administration

[TA-W-41,185]

Pittsburgh Logistics Systems, Inc., a Subsidiary of Quadrivius, Inc., on Location at LTV Steel Corp., Independence, OH; Notice of Revised Determination

In accordance with the August 28, 2003 order of the United States Court of International Trade (USCIT) in Former Employees of Pittsburgh Logistics Systems, Inc., Plaintiff v. United States Secretary of Labor, Defendant (Court No. 02-00387), I make the following certification:

All workers of Pittsburgh Logistics Systems, Inc., A Subsidiary of Quadrivius, Inc., on location at LTV Steel Corp., Independence, Ohio who became totally or partially separated from employment on or after February 23, 2001, through two years from date of certification, are eligible to apply for adjustment assistance under section 223 of the Trade Act of 1974.

Signed at Washington, DC, this 30th day of October, 2003.
Elliott S. Kushner,
Certifying Officer, Division of Trade Adjustment Assistance.

[FR Doc. 03-29542 Filed 11-25-03; 8:45 am]

BILLING CODE 4510-30-P